DEPARTMENT OF DEFENSE

Office of the Secretary

DoDEA FY 2009 Grant Competition Announcement

AGENCY: Department of Defense Education Activity, Department of Defense.

ACTION: Notice of grant competition announcement.

SUMMARY: The Department of Defense Education Activity (DoDEA) is announcing the Promoting Student Achievement at Schools Impacted by Military Force Structure Changes grant competition and requesting letters of intent and concept papers. Approximately $30 million is expected to be awarded, depending on availability of funding. The period of performance is expected to be 39 months (01 Jul 2009-30 Sept 2012). Awards will be based on military student enrollment and will range in size from $300,000 to $2,000,000, depending on the number of military students at the target schools. The Department's aim is to enhance the education of military students, but funds may be used to raise student achievement for all students at the target school(s).

Projects will enhance student learning opportunities, student achievement, and educator professional development at military-connected schools that are experiencing significant military growth between 2007 and 2009 due to force structure changes based on the Report to Congress (March 2008). The Department has a priority of awarding grants to schools with low student achievement. This solicitation is open only to school districts serving 22 military installations, as shown in the list of eligible school districts below.

Concept papers are expected to be reviewed in March, 2009; full proposals, in June, 2009. Awards are expected to be made on or about July 1, 2009. The Department will take into account geographic distribution and Military Service representation when making grant awards.

Authorization

• Section 574 (c) of Public Law 109-364, as amended by Section 553 of Public Law 110-417; Title 10 U.S.C. Section 2192(b) and Title 10 U.S.C. Section 2193a.

CFDA Number (Pending)

• CFDA 12.030: Support for K-12 Student Achievement at Military-Connected Schools.

K-12 Education

The Department of Defense (DoD) considers the education of the dependents of members of the Armed Forces to be a critical quality of life issue. K-12 education concerns are often cited as a key reason for requesting changes in assignment and for deciding not to reenlist.

Eligibility

The determination of eligible military installations was based on the Report to Congress (March 2008). Impact Aid data and DoD expertise were used to determine the school districts associated with those installations. If a school district can substantiate that it meets the eligibility requirements but is not named on the appended list, it may submit its concept paper to the DoDEA Point-of-Contact (below). DoDEA will make the final eligibility determination.

DoDEA Point-of-Contact

• Mr. Brian Pritchard, Contracts and Grants Liaison, Department of Defense Education Activity (DoDEA) E-mail: brian.pritchard@hq.dodea.edu.

Proposals

Eligible school districts may submit one proposal. Each district's proposal will target one or more schools that meet the following military student enrollment requirements. First, each target school's SY08-09 enrollment must include at least 15 percent military students. Second, the number of military students served by the project must total at least 200. Although the Department's aim is to enhance the education of military students, project funds may be used to raise student achievement for all students in the target school(s).

Definition of Military Student

Military student is defined as an elementary or secondary school student who is a dependent of a member of the Armed Forces or a civilian employee of the DoD who is employed on Federal property.

Proposal Topics

DoDEA seeks proposals that enhance student learning opportunities, student achievement, and educator professional development. Proposals serving schools with low student achievement will receive preference. Student achievement in the area(s) being addressed in the projects should include measurements of performance on state norm-and/or criterion-referenced assessments.

Projects must use nationally recognized (or equivalent), research-based practices to enhance student achievement in the following areas: Reading, English language arts, science, mathematics, technology, engineering, foreign language, and social studies. Proposals must have a strong evaluation plan with data disaggregated at the school level for the military student population.

Anticipated Awards

It is anticipated grants will be funded at the rate of $1,200 per military student (for the entire grant period) with a minimum award of $300,000 and a maximum award of $2,000,000. A maximum of 25 percent of grant funds may be used for equipment and the employment of full-time equivalent (FTE) staff. No grants funds may be allocated for administrative or indirect costs. Awards are expected to take the form of grants to each selected organization. It is anticipated that awards will be announced on or about June 15, 2009, and that the funding period will begin on or about July 1, 2009.

Proposal Evaluation and Selection

Concept papers, limited to six pages in length, will consist of an overview of the district, needs assessment, project concept, evaluation concept, and sustainability and budget. Full proposals will consist of two abstracts (50 and 200 words), 15-page narrative (needs assessment, project concept, evaluation concept, and sustainability and budget), bibliography, up to three resumes, and up to two letters of support.

Each proposal will be evaluated by a team of professionals. Approximately one month after the submission of the concept papers, DoDEA will inform districts whether or not they have been invited to submit a full proposal.

Expected Dates and Procedures

Application Available: 02 Jan 09

Deadline for Submission of Letter of Intent (optional): 26 Jan 09, 5 p.m. (EST)

Deadline for Submission of Concept Papers: 20 Feb 09, 5 p.m. (EST)

Deadline for Submission of Full Proposals: 01 May 09, 5 p.m. (EST)

Concept papers will be emailed to DoDEA. Full proposals must be submitted online through www.Grants.gov. Detailed submission procedures will be presented in the solicitation.

Proposal Compliance

Failure to adhere to deadlines to be specified in the forthcoming application may result in proposal rejection. Any proposal received after the exact time and date specified for receipt will not be considered. DoDEA, in its sole discretion, may accept a late proposal if it determines that no competitive advantage has been conferred and that the integrity of the competitive grants process will not be compromised.

SUPPLEMENTARY INFORMATION:

Local Educational Agencies (LEA)* Associated With Military Installations Experiencing Significant Military Student Growth, 2007-09, per the Report to Congress (March 2008)

Randolph Air Force Base, Texas (14)

Alamo Heights ISD, Comal ISD, East Central ISD, Edgewood ISD, Harlandale ISD, Judson ISD, Northeast ISD, Northside ISD, Randolph Field ISD, San Antonio ISD, Schertz-Cibolo-University City ISD, Sommerset ISD, Southeast ISD, Southwest ISD.

Fort Lewis, Washington (20)

Auburn SD, Bethel SD, Clover Park SD, Dieringer SD, Eatonville SD, Federal Way PS, Fife PS, Franklin Pierce Schools, Griffin SD, North Thurston SD, Orting SD, Olympia SD, Peninsula SD, Puyallup SD, Steilacoom Historical SD, Tacoma SD, Sumner SD, Turnwater SD, University Place SD, Yelm CS.

Fort Bragg, North Carolina (5)

Cumberland County SD, Harnett County SD, Hoke County SD, Lee County SD, Moore County SD.

Fort Carson, Colorado (23)

Academy SD, Calhan SD RJ-1, Canon City Fremont RE-1, Cheyenne Mountain District #2, Colorado Springs District #11, Douglas SD RE, Edison SD 54-J, Elbert SD #200, Elizabeth SD C, Ellicott SD #22, Falcon SD #49, Fountain Fort Carson, Fremont RE-2, Hanover SD #38, Harrison District #2, Lewis Palmer, Manitou Springs District #14, Miami-Yoder 60 JT, Peyton SD 23-J, SD #60, SD #70, Widefield District #3, Woodland Park SD.

Fort Knox, Kentucky (5)

Breckinridge County SD, Bulitt County PS, Elizabethtown IS, Hardin County Schools, Meade County SD.

Cannon Air Force Base, New Mexico (2)

Clovis Municipal SD, Portales Municipal SD.

Fort Bliss, Texas (9)

Anthony SD, Canutillo SD, Clint SD, El Paso ISD, Fabens SD, San Elizario SD, Socorro ISD, Tomillo SD, Ysleta ISD.

MacDill Air Force Base, Florida (4)

Hillsborough County PS, Manatee County SD, Pasco County SD, Pinellas County SD.

Scott Air Force Base, Illinois (28)

Belle Valley SD #119, Belleville Public SD #118, Belleville Township High SD #201, Central SD #104, Collinsville Community Unit SD #10, Edwardsville Community Unit SD #7, Freeburg Community Consolidated SD #77, Freeburg Community High School, Grant Community Consolidated SD #110, Harmony Emge SD #175, High Mount SD #116, Highland Community Unit SD #5, Lebanon Community Unit SD #9, Mascoutah Community Unit SD #19, Millstadt Consolidated School #160, New Athens Community Unit District #60, O'Fallon Community Consolidated SD #90, O'Fallon Township High SD #203, Pontiac-Wm Holliday District #105, Shiloh Village SD #85, Signal Hill SD #181, Smithton CCSD #130, St. Libory SD #30, St. Louis Public SD, Triad Community Unit SD #2, Wesclin Unit District #3, Whiteside SD #115, Wolf Branch SD #113.

Fort Sill, Oklahoma (9)

Bishop PS, Boone-Apache SD, Cache PS, Duncan PS, Elgin PS, Fletcher PS, Flower Mound School, Indiahoma PS, Lawton PS.

Fort Campbell, Kentucky (6)

Cheatham County Schools, Christian County PS, Clarksville-Montgomery County Schools, Stewart County School System, Todd County PS, Trigg County PS.

Fort Lee, Virginia (6)

Chesterfield County PS, Colonial Heights PS, Dinwiddie County PS, Hopewell City PS, Petersburg City PS, Prince George County PS.

Dover Air Force Base, Delaware (6)

Caesar Rodney SD, Capital SD, Lake Forest SD, Milford SD, Poly Tech SD, Smyrna SD.

Fort Leonard Wood, Missouri (7)

Crocker R-2 SD, Dixon R-1 Schools, Laquey R-V SD, Newburg SD, Phelps County R-III School, Richland R-IV SD, Waynesville R-VI SD.

Fort Sam Houston, Texas (14)

Alamo Heights ISD, East Central ISD, Edgewood ISD, Fort Sam Houston ISD, Harlandale ISD, Judson ISD, Lackland ISD, Northeast ISD, Northside ISD, Randolph-Field ISD, San Antonio ISD, Schertz-Cibolo Universal City ISD, South San Antonio ISD, Southwest ISD.

Naval Station San Diego, California (32)

Cajon Valley Union, Cardiff Elementary, Carlsbad Unified, Chula Vista Elementary, Coronado Unified, Del Mar Union, Encinitas Union, Escondido Union, Escondido Union High, Grossmont Union High, Jamul-Dulzura Union, La Mesa-Spring Valley, Lakeside Union, Lemon Grove, National, Oceanside Unified, Poway Unified , Ramona Unified, Rancho Santa Fe, San Diego Unified, San Dieguito Union High, San Marcos Unified, San Pasqual Union, Santee, Solana Beach, South Bay Union, Spencer Valley, Sweetwater Union High, Vallecitos, Valley Center-Pauma Unified, Vista Unified, Warner Unified.

National Training Center—Fort Irwin, California (2)

Barstow Unified SD, Silver Valley Unified SD.

Fort Polk, Louisiana (2)

Beauregard Parish SD, Vernon Parish SD.

Camp Lejeune, North Carolina (2)

Craven County SD, Onslow County SD.

Fort Benning, Georgia (7)

Bryan County Schools, Chattahoochee County SD, Harris County SD, Lee County SD, Muscogee County SD, Phenix City, Russell County.

McConnell Air Force Base, Kansas (2)

Derby SD—USD 260, Wichita USD 259.

Schofield Barracks, Hawaii (1)

Hawaii Department of Education.

* Being named on this list does not guarantee eligibility. In order to apply, the LEAs on the list must also meet the eligibility requirements stated in the application. LEAs that believe they are eligible, but are not listed above, need to provide the relevant eligibility information to DoDEA, per the directions in the announcement.

Dated: November 12, 2008.
Patricia L. Toppings,
OSD Federal Register Liaison Officer, Department of Defense.

[FR Doc. E8-27306 Filed 11-17-08; 8:45 am]

BILLING CODE 5001-06-P